DEPARTMENT OF AGRICULTURE

Forest Service

Trestle Forest Health Project, Eldorado National Forest, El Dorado County, CA

AGENCY: USDA Forest Service.

ACTION: Notice of intent to prepare an environmental impact statement.

SUMMARY: The USDA Forest Service, Eldorado National Forest will prepare an Environmental Impact Statement (EIS) for a proposal to modify vegetation on approximately 7,000 acres of National Forest System land. The purpose of the project is to modify the forest vegetation in order to put it on a trajectory toward the desired conditions for: (1) Reduced tree density; (2) sustained old forest conditions; (3) enhanced wildlife habitat; (4) reduced wildfire risk; (5) improved long-term scenic sustainability; (6) increased recreational opportunities; (7) enhanced riparian conservation areas; and, (8) maximized revenue derived from commercial products to perform essential and costly biomass removal, and to support the retention of local industrial infrastructure. The project area is located south-east of the community of Grizzly Flat, including the area surrounding Leoni Meadows, west of Caldor, and north of Big Mountain. The project is located entirely in El Dorado County, California in T.8N., R.13 E., in all or portions of Sections 1 and 2; T.8N., R.14 E., in all or portions of Sections 4-6; T.9N., R.13E., in portions of Section 1-3, 11-16, 19-30, 33-36; T.9N., R.14E., in all or portions of Sections 5-10, 14-22, 28-33; and T.10 N, R.13E., in all or portions of Sections 35 and 36; M.D.B & M.

DATES: Comments concerning the scope of the analysis should be received by April 8, 2013.

The draft environmental impact statement is expected November 2013 and the final environmental impact statement is expected May 2014.

ADDRESSES: Send written comments to Placerville Ranger District, 4260 Eight Mile Road, Camino, CA 95709. Attention: Trestle Forest Health Project. Comments may also be sent via email to comments-pacificsouthwest-eldorado-placerville@fs.fed.us, or via facsimile to (530) 647-5311.

FOR FURTHER INFORMATION CONTACT: Tim Howard, Project Leader, Placerville Ranger District, 4260 Eight Mile Road, Camino, California 95709, or telephone at (530) 647-5382. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need is to: (1) Improve the forest health across the project area; (2) reduce the fuel loading to reduce the threat of large high intensity wildfire and threats to Grizzly Flat, Leoni Meadows, and other landowners; (3) maintain and enhance the existing hardwood and late seral conifer component; (4) maintain and enhance scenic integrity and recreation opportunities; (5) treat hazardous fuels in a cost-effective manner to optimize treatment acres under a limited budget while fulfilling the role the Forest Service has in providing a wood supply for local manufacturers; (6) provide a maintainable level of forest access while closing unneeded roads and motorized trails to enhance wildlife habitat and reduce wildlife harassment; (7) enhance and maintain strategically placed area fuels treatments designed to slow the spread of wildfire; (8) enhance watershed conditions; (9) remove impediments to deer/wildlife movement; and, (10) improve winter range for the Grizzly Flat deer herd through reducing disturbance, improving forage to enhance winter survival, particularly that of pregnant does and fawns, providing thermal and security cover and utilizing updated deer management plan guidance.

Proposed Action

Conduct prescribed understory burning on approximately 15,287 acres. Activities would include construction of firelines by hand or tractor, and hand cutting ladder fuels around large old growth conifers, and oak trees.

Hand cut understory vegetation, pile and burn the piles on approximately 1,196 acres within 300 feet of private property boundaries in the Wildland Urban Interface (WUI) defense zones and within the threat and defense zones of the Steely Fork Cosumnes River drainage south of the community of Grizzly Flat. Hand treatments would still occur if mechanical treatment units are dropped from implementation.

Conduct danger tree removal adjacent to system roads and motorized trails open to the public, including landings, dispersed camping areas, and within treatment units, for public, woods workers, and Forest Service employee safety. Dead and unstable live trees that do not present a hazard would be retained.

Remove competing conifers from the understory and within 30 feet of the perimeter of existing oak trees and/or groups of oaks.

Close approximately 53 miles of system roads and 4 miles of motorized trails previously determined to not be open to the public motorized use with barricades or gates. These roads would continue to be used for FS administrative traffic for follow-up prescribed burning and other activities.

Decommission approximately 5 miles of non-system roads and trails previously determined to not be open to public motorized use by obliterating, ripping, or hiding with woody debris.

Use a combination of ground based and skyline logging systems to conduct commercial thinning on approximately 4,653 acres (274 acres of skyline and 4,124 acres of ground based in natural stands, and 274 acres ground based in plantations). Ground-based mechanized equipment (low-impact feller-buncher, hand felling, and whole tree yarding with conventional skidding equipment) would be restricted to slopes generally less than 40%.

Where necessary during initial harvest, small trees and brush would be mechanically thinned to facilitate sawtimber and biomass removal. Skyline logging systems would be restricted to slopes generally over 40%.

Conduct pre-commercial thinning and mastication of competing brush on 184 acres of conifer plantations, of which, 19 acres are located in California spotted owl Protected Activity Centers (PACs) and 164 acres located outside of PACs.

Reconstruct approximately 73 miles of system roads and maintain approximately 30 miles of system roads. Reconstruction activities would involve the repair or replacement of inadequate drainage culverts, elimination of ruts, ditch repair, installation of waterbars and dips with inadequate water runoff control, gate installation to control seasonal use or replacement of existing non-functional gates or barricades, and removal of brush and small trees encroaching on roads.

Perform follow-up machine piling, and cutting small trees and brush with pile burning on approximately 2,000 acres in natural stands to reduce ground fuels and ladder fuels. Machine piling would occur only on slopes less than 40%. Piling locations would be determined after harvest activities are complete.

Reuse about 3 miles of existing temporary roads. After the temporary roads have served their use, they would be barricaded, obliterated and ripped to alleviate soil compaction, restore infiltration, and discourage unauthorized motor vehicle use.

Approximately 70 existing landings and any new landings constructed in this project would be ripped to minimize erosion problems, restore infiltration, and discourage unauthorized motor vehicle use.

Remove approximately 26 miles of barbed wire fencing, primarily from the vacant Caldor and Steely Creek Range Allotments. Materials that could be salvaged would be incorporated into future projects on the Forest and the remainder would be recycled.

Boulders would be placed to protect the Pleasant Valley Mariposa lily occurrence along Big Mountain Road from vehicle traffic.

Rehabilitate several dispersed camping areas and associated spur roads adjacent to Dogtown Creek and the Steely Fork Consumnes River. Activities would include, but not limited to, one or more of the following: Placement of boulders to define the foot print of the camping areas and close unnecessary spur roads; ripping of compacted areas and spur roads; construction of waterbars and/or other runoff control structures; placement of organic material on the ground surface of denuded areas, and planting of native vegetation.

Responsible Official

Forest Supervisor, Eldorado National Forest.

Nature of Decision To Be Made

The decision to be made is whether to adopt and implement the proposed action, an alternative to the proposed action, or take no action to improve forest health.

Scoping Process

This notice of intent initiates the scoping process, which guides the development of the environmental impact statement. To facilitate public participation, information about the proposed action will be mailed to all who express interest in the proposed action. It is important that reviewers provide their comments at such times and in such manner that they are useful to the agency's preparation of the environmental impact statement. Therefore, comments should be provided prior to the close of the comment period and should clearly articulate the reviewer's concerns and contentions. Comments received in response to this solicitation, including names and addresses of those who comment, will be part of the public record for this proposed action. Comments submitted anonymously will be accepted and considered, however.

Dated: February 25, 2013.
Kathryn D. Hardy,
Forest Supervisor.

[FR Doc. 2013-04887 Filed 3-1-13; 8:45 am]

BILLING CODE 3410-11-P